DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; new information collection; OMB No. 1660-NW35; FEMA Form 528-1, NEFRLS Registration; and FEMA Form 528-2, NEFRLS Search.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before August 17, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: National Emergency Family Registry and Locator System (NEFRLS).

Type of information collection: New information collection.

OMB Number: 1660-NW35.

Form Titles and Numbers: FEMA Form 528-1, NEFRLS Registration; and FEMA Form 528-2, NEFRLS Search.

Abstract: NEFRLS is a Web-based system. The information collected in the NEFRLS will be used to help facilitate the reunification of family members that have been displaced due to a major disaster or emergency.

Affected Public: Individuals or households.

Estimated Number of Respondents: 446,648.

Frequency of Response: On Occasion.

Estimated Average Hour Burden per Respondent: .74 Hours.

Estimated Total Annual Burden Hours: 328,366.

Estimated Cost: There is no start-up, operational or other costs associated with this information collection.

Dated: July 10, 2009.
Larry Gray,
Director, Records Management Division, Office of Management, Federal Emergency Management Agency, Department of Homeland Security.

[FR Doc. E9-17068 Filed 7-16-09; 8:45 am]

BILLING CODE 9111-23-P